DEPARTMENT OF HOMELAND SECURITY

Coast Guard

33 CFR Part 110

[Docket Number USCG-2016-0132]

RIN 1625-AA01

Anchorage Grounds, Hudson River; Yonkers, NY to Kingston, NY

AGENCY: Coast Guard, DHS.

ACTION: Advance notice of proposed rulemaking.

SUMMARY: The Coast Guard is considering establishing new anchorage grounds in the Hudson River from Yonkers, NY, to Kingston, NY. We are considering this action after receiving requests suggesting that anchorage grounds may improve navigation safety along an extended portion of the Hudson River, which currently has no anchorage grounds, allowing for a safer and more efficient flow of vessel traffic. The Coast Guard is seeking comments and information about the operational need for new anchorage grounds and what form possible regulations should take.

DATES: Comments and related material must be received by the Coast Guard on or before September 7, 2016.

Requests for public meetings must be received by the Coast Guard on or before June 30, 2016.

ADDRESSES: You may submit comments identified by docket number USCG-2016-0132 using the Federal eRulemaking Portal at http://www.regulations.gov. See the “Public Participation and Request for Comments” portion of the SUPPLEMENTARY INFORMATION section for further instructions on submitting comments.

FOR FURTHER INFORMATION CONTACT: If you have questions on this document, call or email Mr. Craig Lapiejko, Waterways Management Branch at Coast Guard First District, telephone 617-223-8351, email craig.d.lapiejko@uscg.mil.

SUPPLEMENTARY INFORMATION:

Table of Acronyms

ANPRM Advance notice of proposed rulemaking

DHS Department of Homeland Security

FR Federal Register

NAD 83 North American Datum of 1983

A. Public Participation and Request for Comments

We view public participation as essential to effective rulemaking, and will consider all comments and material received during the comment period. Your comments can help shape the outcome of this possible rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this ANPRM as being available in the docket, and all public comments, will be in our online docket at http://www.regulations.gov and can be viewed by following that Web site's instructions. Additionally, if you go to the online docket and sign up for email alerts, you will be notified when comments are posted and if we publish rulemaking documents related to this ANPRM.

B. Regulatory History and Information

Under title 33 Code of Federal Regulation (CFR) 109.05, U.S. Coast Guard District Commanders are delegated the authority to establish anchorage grounds by the Commandant of the U.S. Coast Guard. The Coast Guard establishes Anchorage Grounds under the authority in Section 7 of the act of March 4, 1915, as amended (38 Stat. 1053; 33 U.S.C. 471), and places these regulations in title 33 CFR part 110, subpart B. Hudson River Anchorage Ground regulations were last amended by rules published on March 31, 2016, January 15, 2015, and on July 20, 1999; these are 81 FR 18494, 80 FR 2011, and 64 FR 38828, respectively. The Coast Guard is now considering a proposed rulemaking to establish new anchorage grounds in the Hudson River.

C. Basis and Purpose

The legal basis and authorities for this ANPRM are found in 33 U.S.C. 471, 1221 through 1236, and 2071, as well as 33 CFR 1.05-1 and Department of Homeland Security Delegation No. 0170.1, which collectively authorize the Coast Guard to propose, establish, and define regulatory anchorages. The Coast Guard is considering establishing new anchorage grounds.

The Coast Guard received requests from the Maritime Association of the Port of NY/NJ Tug and Barge Committee, the Hudson River Port Pilot's Association, and the American Waterways Operators to consider establishing new anchorage grounds on the Hudson River. The purpose of this ANPRM is to solicit comments on potential proposed rulemakings to increase the available anchorage grounds on the Hudson River in areas which currently have no anchorages.

D. Discussion of Possible Proposed Rule

The Coast Guard is considering proposing to establish new anchorage grounds on the Hudson River. The anticipated users of the proposed anchorage grounds are commercial vessels and their attending tug, tow, or pushboats.

The approximate depths of the proposed anchorage grounds range from 21 feet to 65 feet, which would accommodate a variety of vessel types and configurations, and would not interfere with the areas where vessels have historically transited the Hudson River. Preliminary details describing these contemplated anchorage grounds are provided below using coordinates based on North American Datum of 1983 (NAD 83). Illustrations showing the locations of these anchorage grounds are available in the docket.

Contemplated Kingston Flats South Anchorage Ground

We are considering proposing that a Kingston Flats South Anchorage Ground would cover approximately 279 acres for up to three vessels with a draft of less than 22 feet for long term usage. It would provide a vessel swing radius of approximately 1,300 feet for one vessel and of approximately 1,800 feet for two vessels. The contemplated anchorage ground would encompass waters within lines connecting the following points: 41-56.79′ N., 073-57.24′ W.; thence to 41-56.78′ N., 073-56.85′ W.; thence to 41-55.81′ N., 073-56.95′ W.; thence to 41-55.81′ N., 073-57.42′ W.; thence to the point of origin (NAD 83).

Contemplated Port Ewen Anchorage Ground

We are considering proposing that a Port Ewen Anchorage Ground would cover approximately 47 acres for one vessel with a draft of less than 30 feet for short term usage. It would provide a vessel swing radius of approximately 1,200 feet. The contemplated anchorage ground would encompass waters within lines connecting the following points: 41-54.85′ N., 073-57.85′ W.; thence to 41-54.79′ N., 073-57.59′ W.; thence to 41-54.58′ N., 073-57.64′ W.; thence to 41-54.57′ N., 073-57.95′ W.; thence to the point of origin (NAD 83).

Contemplated Big Rock Point Anchorage Ground

We are considering proposing that a Big Rock Point Anchorage Ground would cover approximately 208 acres for up to four vessels with a draft of less than 35 feet for long term usage. It would provide a vessel swing radius of approximately 1,200 feet for each vessel. The contemplated anchorage ground would encompass waters within lines connecting the following points: 41-54.25′ N., 073-58.04′ W.; thence to 41-54.31′ N., 073-57.76′ W.; thence to 41-53.79′ N., 073-57.55′ W.; thence to 41-53.40′ N., 073-57.25′ W.; thence to 41-53.21′ N., 073-57.45′ W.; thence to 41-53.68′ N., 073-57.80′ W.; thence to the point of origin (NAD 83).

Contemplated Roseton Anchorage Ground

We are considering proposing that a Roseton Anchorage Ground would cover approximately 305 acres for up to three vessels with a draft of less than 40 feet for long term usage. It would provide a vessel swing radius of approximately 1,700 feet for each vessel. The contemplated anchorage ground would encompass waters within lines connecting the following points: 41-33.46′ N., 073-58.71′ W.; thence to 41-33.41′ N., 073-58.27′ W.; thence to 41-32.92′ N., 073-58.77′ W.; thence to 41-32.41′ N., 073-59.21′ W.; thence to 41-32.65′ N., 073-59.47′ W.; thence to 41-33.12′ N., 073-59.11′ W.; thence to the point of origin (NAD 83).

Contemplated Milton Anchorage Ground

We are considering proposing that a Milton Anchorage Ground would cover approximately 74 acres for up to two vessels with a draft of less than 40 feet for long term usage. It would provide a vessel swing radius of approximately 1,200 feet for each vessel. The contemplated anchorage ground would encompass waters within lines connecting the following points: 41-38.56′ N., 073-57.02′ W.; thence to 41-38.64′ N., 073-56.72′ W.; thence to 41-38.12′ N., 073-56.79′ W.; thence to 41-37.93′ N., 073-56.88′ W.; thence to 41-38.19′ N., 073-57.05′ W.; thence to the point of origin (NAD 83).

Contemplated Marlboro Anchorage Ground

We are considering proposing that a Marlboro Anchorage Ground would cover approximately 154 acres for up to three vessels with a draft of less than 35 feet for long term usage. It would provide a vessel swing radius of approximately 1,800 feet for each vessel. The contemplated anchorage ground would encompass waters within lines connecting the following points: 41-36.68′ N., 073-57.12′ W.; thence to 41-38.82′ N., 073-57.76′ W.; thence to 41-35.88′ N., 073-57.21′ W.; thence to 41-35.87′ N., 073-56.92′ W.; thence to the point of origin (NAD 83).

Contemplated Newburgh Anchorage Ground

We are considering proposing that a Newburgh Anchorage Ground would cover approximately 445 acres for up to five vessels with a draft of less than 32 feet toward the northern end and less than 22 feet toward the southern end for long term usage. It would provide a vessel swing radius of approximately 1,800 feet for each vessel. The contemplated anchorage ground would encompass waters within lines connecting the following points: 41-29.75′ N., 073-59.98′ W.; thence to 41-29.96′ N., 073-59.48′ W.; thence to 41-28.38′ N., 073-59.94′ W.; thence to 41-28.29′ N., 074-00.20′ W.; thence to the point of origin (NAD 83).

Contemplated Tompkins Cove Anchorage Ground

We are considering proposing that a Tomkins Cove Anchorage Ground would cover approximately 98 acres for up to three vessels with a draft of less than 40 feet for long term usage. It would provide a vessel swing radius of approximately 1,200 feet for each vessel. The contemplated anchorage ground would encompass waters within lines connecting the following points: 41-15.91′ N., 073-58.51′ W.; thence to 41-15.91′ N., 073-58.21′ W.; thence to 41-15.27′ N., 073-58.38′ W.; thence to 41-15.28′ N., 073-58.65′ W.; thence to the point of origin (NAD 83).

Contemplated Montrose Point Anchorage Ground

We are considering proposing that a Montrose Point Anchorage Ground would cover approximately 127 acres for up to three vessels with a draft of less than 26 feet for long term usage. It would provide a vessel swing radius of approximately 1,400 feet for each vessel. The contemplated ground would encompass waters within lines connecting the following points: 41-14.02′ N., 073-57.45′ W.; thence to 41-14.09′ N., 073-57.15′ W.; thence to 41-31.10′ N., 073-57.00′ W.; thence to 41-13.18′ N., 073-56.60′ W.; thence to the point of origin (NAD 83).

Contemplated Yonkers Extension Anchorage Ground

We are considering proposing that a Yonkers Extension Anchorage Ground would cover approximately 715 acres for up to 16 vessels with a draft of less than 35 feet for long term usage. It would provide a vessel swing radius of approximately 1,200 feet for each vessel. The contemplated anchorage ground would encompass waters within lines connecting the following points: 41-00.60′ N., 073-53.61′ W.; thence to 41-00.60′ N., 073-53.31′ W.; thence to 40-58.05′ N., 073-53.96′ W.; thence to 40-56.96′ N., 073-54.39′ W.; thence to 40-57.02′ N., 073-54.71′ W.; thence to 40-58.11′ N., 073-54.25′ W.; thence to the point of origin (NAD 83).

E. Information Requested

Public participation is requested to assist in determining the best way forward with respect to establishing new anchorage grounds on the Hudson River between Yonkers, NY, to Kingston, NY. To aid us in developing a possible proposed rule, we seek any comments, whether positive or negative, including but not limited to the impacts anchorage grounds may have on navigation safety and current vessel traffic in this area, the proposed number and size of vessels anchoring in each proposed anchorage ground, and the authorized duration for each vessel in each proposed anchorage ground. We are also seeking comments on any additional locations where anchorage grounds may be helpful on the Hudson River or any recommended alterations to the specific locations considered in this notice. Please submit any comments or concerns you may have in accordance with the “Public Participation and Request for Comments” section above.

L.L. Fagan,
Rear Admiral, U.S. Coast Guard, Commander First Coast Guard District.

[FR Doc. 2016-13701 Filed 6-8-16; 8:45 am]

BILLING CODE 9110-04-P